OFFICE OF PERSONNEL MANAGEMENT

Excepted Service Appointments

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Manager, Senior Executive Resource Services, Employee Services, 202-606-2246.

SUPPLEMENTARY INFORMATION: Appearing in the listing below are the individual authorities established under Schedules A, B, and C between August 1, 2010, and August 31, 2010. These notices are published monthly in the Federal Register at http://www.gpoaccess.gov/fr/. A consolidated listing of all authorities as of June 30 is also published each year. The following Schedules are not codified in the Code of Federal Regulations. These are agency-specific exceptions.

Schedule A

Schedule A authorities to report during August 2010.

Department of Treasury (Section 213.3105)

(a)(2) Covering no more than 100 positions supplementing permanent staff studying domestic economic and financial policy, with employment not to exceed 4 years.

Schedule B

No Schedule B authorities to report during August 2010.

Schedule C

The following Schedule C appointments were approved during August 2010.

Office of National Drug Control Policy

QQGS90006 Outreach and Events Coordinator for Intergovernmental Affairs. Effective August 19, 2010.

Office of the United States Trade Representative

TNGS00036 Confidential Assistant to the Chief of Staff. Effective August 2, 2010.

TNGS00037 Director of Scheduling and Advance to the United States Trade Representative. Effective August 2, 2010.

Department of State

DSGS70094 Protocol Assistant to the Chief of Protocol. Effective August 16, 2010.

DSGS70117 Legislative Management Officer for Legislative and Intergovernmental Affairs. Effective August 16, 2010.

Department of the Treasury

DYGS00518 Spokesperson for the Public Affairs Operations. Effective August 10, 2010.

DYGS60277 Senior Speechwriter for Public Affairs. Effective August 17, 2010.

Department of Defense

DDGS17291 Special Assistant to the Deputy Assistant Secretary of Defense (Industrial Policy). Effective August 10, 2010.

DDGS17294 Defense Fellow of Defense for the White House Liaison. Effective August 13, 2010.

DDGS17295 Defense Fellow for the White House Liaison. Effective August 13, 2010.

DDGS17296 Defense Fellow for the White House Liaison. Effective August 13, 2010.

DDGS17206 Special Assistant to the Deputy Assistant Secretary of Defense (Budget and Appropriations Affairs). Effective August 17, 2010.

DDGS17293 Staff Assistant for the White House Liaison. Effective August 24, 2010.

Department of the Air Force

DFGS60027 Special Assistant to the Secretary of the Air Force. Effective August 23, 2010.

DFGS60028 Special Assistant to the Assistant Secretary (Installations, Environment and Logistics). Effective August 23, 2010.

Department of Justice

DJGS00499 Confidential Assistant for the Office on Violence Against Women. Effective August 2, 2010.

DJGS00357 Confidential Assistant to the Deputy Attorney General. Effective August 11, 2010.

DJGS00617 Counsel to the Assistant Attorney General. Effective August 13, 2010.

DJGS00618 Counsel for Access to Justice. Effective August 13, 2010.

DJGS00619 Special Assistant to the Attorney General. Effective August 13, 2010.

DJGS00494 Counsel to the Assistant Attorney General. Effective August 16, 2010.

DJGS00620 Attorney Advisor to the Assistant Attorney General (Legislative Affairs). Effective August 26, 2010.

Department of the Interior

DIGS01198 Deputy Director, Intergovernmental Affairs. Effective August 5, 2010.

DIGS01200 Special Assistant of Ocean Energy Management, Regulation and Enforcement. Effective August 10, 2010.

Department of the Interior

DIGS01185 Deputy Chief of Staff for Land and Minerals Management. Effective August 13, 2010.

Department of Agriculture

DAGS00240 Confidential Assistant for Risk Management. Effective August 26, 2010.

Department of Commerce

DCGS00339 Confidential Assistant for Legislative and Intergovernmental Affairs. Effective August 5, 2010.

DCGS00330 Senior Director for Administration. Effective August 10, 2010.

DCGS00184 Special Assistant to the General Counsel. Effective August 11, 2010.

DCGS00657 Confidential Assistant to the Deputy Chief of Staff. Effective August 20, 2010.

DCGS00298 Special Advisor for Antidumping and Countervailing Duty Policy and Negotiations. Effective August 25, 2010.

Department of Labor

DLGS60141 Special Assistant for Labor-Management Programs. Effective August 2, 2010.

DLGS60253 Special Assistant to the Deputy Chief of Staff. Effective August 2, 2010.

DLGS60122 Senior Advisor for Policy. Effective August 9, 2010.

Department of Health and Human Services

DHGS60257 Special Assistant of Intergovernmental Affairs. Effective August 10, 2010.

DHGS60344 Confidential Assistant for Legislation (Health Policy). Effective August 13, 2010.

DHGS60570 Confidential Assistant (Advance) for Advance. Effective August 13, 2010.

DHGS60331 Special Assistant for Centers for Medicare and Medicaid Services. Effective August 16, 2010.

Department of Education

DBGS00250 Confidential Assistant to the Under Secretary. Effective August 16, 2010.

DBGS00212 Confidential Assistant for Postsecondary Education. Effective August 20, 2010.

Environmental Protection Agency

EPGS05018 Deputy Associate Administrator for Office of Congressional Affairs. Effective August 20, 2010.

Council on Environmental Quality

EQGS10011 Special Assistant to the Chairman (Council on Environmental Quality). Effective August 2, 2010.

Federal Communications Commission

FCGS10228 Advisor to the Chairman. Effective August 17, 2010.

Department of Energy

DEGS00826 Special Assistant to the Chief of Staff. Effective August 3, 2010.

DEGS00827 Legislative Policy Advisor for Congressional and Intergovernmental Affairs. Effective August 3, 2010.

Small Business Administration

SBGS00681 Special Assistant for Capital Access. Effective August 10, 2010.

SBGS00684 Senior Advisor for Entrepreneurial Development. Effective August 17, 2010.

National Credit Union Administration

CUOT91417 Staff Assistant to a Board Member. Effective August 5, 2010.

Department of Housing and Urban Development

DUGS00024 Special Assistant for Operations. Effective August 5, 2010.

DUGS00040 Congressional Relations Specialist for Congressional and Intergovernmental Relations. Effective August 10, 2010.

Department of Transportation

DTGS60351 Counselor to the Deputy Secretary. Effective August 2, 2010.

Authority: 5 U.S.C. 3301 and 3302; E.O. 10577, 3 CFR 1954-1958 Comp., p. 218.

Office of Personnel Management.
John Berry,
Director.

[FR Doc. 2010-26084 Filed 10-14-10; 8:45 am]

BILLING CODE 6325-39-P